DEPARTMENT OF DEFENSE

Department of the Navy

Notice of Intent To Prepare an Environmental Impact Statement for Establishment of New and/or Modification of Existing Military Operations Areas Near Marine Corps Air Station Cherry Point, NC

AGENCY: Department of the Navy, DOD.

SUMMARY: Pursuant to section 102(2)(c) of the National Environmental Policy Act (NEPA) of 1969, as implemented by the Council on Environmental Quality regulations (40 CFR Parts 1500-1508), the Department of the Navy announces its intent to prepare an Environmental Impact Statement (EIS) to evaluate the potential environmental consequences of the establishment of new and/or modification of existing Military Operations Areas (MOAs) near Marine Corps Air Station (MCAS) Cherry Point, North Carolina. The Federal Aviation Administration (FAA) will serve as a cooperating agency on this EIS.

DATES: All written scoping comments should be postmarked by November 20, 2000. Public scoping open houses will be held to receive oral and/or written comments on environmental concerns that should be addressed in the EIS on October 23, 2000, from 5:30 pm to 8:30 pm, in the Cape Hatteras High School, Highway 12, Buxton, North Carolina; October 24, 2000, from 5:30 pm to 8:30 pm, in the Northside High School, 7860 Free Union Church Road, Pinetown, North Carolina; October 25, 2000, from 5:30 pm to 8:30 pm, in the East Carteret High School, 3263 Highway 70, Beaufort, North Carolina; and October 26, 2000, from 5:30 pm to 8:30 pm, in the New Bern Riverfront Convention Center, 203 South Front Street, New Bern, North Carolina.

ADDRESSES: Written comments, statements and/or questions regarding scoping issues should be addressed to: Atlantic Division, Naval Facilities Engineering Command, (Code BD33KK), 1510 Gilbert Street, Norfolk, Virginia, 23511.

FOR FURTHER INFORMATION CONTACT: Ms. Kelly Knight, telephone (757) 322-4886, fax (757) 322-4894.

SUPPLEMENTARY INFORMATION: Establishment of new and/or modification of existing MOAs is required to provide military aviators with more realistic training opportunities. The purpose of this action is to eliminate required administrative airspeed reductions so that aircraft can maintain tactical flight profiles, and create additional SUA in order to optimize existing aviation training. Military aviators using existing SUA in the MCAS Cherry Point area are required to reduce airspeed to 250 knots or less prior to entering non-SUA below 10,000 feet mean sea level (MSL) and when transiting from one non-contiguous SUA to another. This airspeed reduction requires aircrews to initiate speed reduction prior to departing existing SUA, thereby terminating their tactical profile. This greatly diminishes training value due to decreased realism in tactical flight profiles and restricted tactical approach options, which require the repetition of non-tactical maneuvers during training. Second, expansion of SUA over land is desired to accommodate critical aircrew training requirements that do not require the use of restricted airspace such as air combat maneuvers, formation flight, air intercepts, staging and packaging of multiple aircraft strikes, and a larger acquisition area for simulated weapon systems delivery. These objectives cannot be met through non-SUA actions due to the space requirements to accommodate such operations and restrictive procedures inherent in Airspace for Special Use development and utilization.

Seven MOA alternatives have been identified so far, four individual MOA alternatives and three combination MOA alternatives, for consideration in the EIS. The individual MOA alternatives include: (1) Establishment of the Core MOA at a proposed location east of MCAS Cherry Point and extending from Cape Lookout north to Portsmouth Island and overlying the Cape Lookout National Seashore; (2) establishment of the Mattamuskeet MOA at a proposed location located northeast of MCAS Cherry Point and overlying portions of Pamlico, Beaufort, Hyde, Tyrrell, and Washington counties and the Lake Mattamuskeet and Swanquarter National Wildlife Refuges; (3) establishment of the Cherry MOA at a proposed location northwest of MCAS Cherry Point and overlying portions of Craven, Pamlico, Beaufort and Hyde counties; and (4) modification of the Pamlico B MOA located northeast of MCAS Cherry Point and overlying the Pamlico Sound and portions of Carteret, Hyde and Dare counties. Unlike the first three proposed MOAs, Pamlico B is an existing MOA the use of which would be modified by lowering its base altitude from 8,000 feet mean sea level (MSL) to 3,000 feet MSL. All other existing dimensions would remain unchanged. The proposed floor for any MOA alternative under consideration is 3,000 feet above ground level. In addition to these four individual MOA alternatives, three combination MOA alternatives have been identified. They include: (1) Core and Mattamuskeet MOAs, (2) Core and Cherry MOAs, and (3) Core and Pamlico B MOAs. The No Action Alternative, which would neither establish new nor modify existing MOAS, will also be analyzed in this EIS.

Environmental issues to be addressed in the EIS include, but are not limited to, the effects on wildlife and threatened and endangered species, public lands and waters, civilian aviation, public health and safety, recreation, and community noise.

The Marine Corps will initiate a scoping process for the purpose of determining the extent of issues to be addressed, and identifying significant issues related to this action. Public scoping meetings will be held as noted in the Dates section of this notice. These meetings will be advertised in area newspapers.

Marine Corps representatives will be available at these meetings to receive comments from the public regarding issues of concern to the public. Federal, state and local agencies, and interested individuals are encouraged to take this opportunity to identify environmental concerns that should be addressed during the preparation of the EIS. Agencies and the public are also invited and encouraged to provide written comment on scoping issues in addition to, or in lieu of, oral comments at the public meeting. To be most helpful, scoping comments should clearly describe specific issues or topics that the commentor believes the EIS should address. Written statements and/or questions regarding the scoping process should be mailed by November 20, 2000 to: Commander, Atlantic Division (Attn: Code BD33KK), Naval Facilities Engineering Command, 1510 Gilbert Street, Norfolk, Virginia 23511.

Dated: September 25, 2000.
Elsie L. Munsell,
Deputy Assistant Secretary of the Navy, (Environment and Safety).

[FR Doc. 00-25655 Filed 10-5-00; 8:45 am]

BILLING CODE 3810-FF-P